ARCHITECTURAL AND TRANSPORTATION BARRIERS COMPLIANCE BOARD

36 CFR Parts 1193 and 1194

RIN 3014-AA22

Telecommunications Act Accessibility Guidelines; Electronic and Information Technology Accessibility Standards

AGENCY: Architectural and Transportation Barriers Compliance Board.

ACTION: Notice of meeting.

SUMMARY: The Architectural and Transportation Barriers Compliance Board (Access Board) has established a Telecommunications and Electronic and Information Technology Advisory Committee (Committee) to assist it in revising and updating accessibility guidelines for telecommunications products and accessibility standards for electronic and information technology. This notice announces the dates, times, and location of two upcoming committee meetings, one of which will be a conference call and the other will be an in-person meeting.

DATES: The conference call is scheduled for January 2, 2008 (beginning at 1 p.m. and ending at 4 p.m. Eastern time). The in-person meeting will take place on January 7-9, 2008 (beginning at 8:30 a.m. and ending at 6 p.m. each day).

ADDRESSES: Individuals can participate in the conference call on January 2, 2008 by dialing the teleconference numbers which will be posted on the Access Board's Web site at http://www.access-board.gov/sec508/update-index.htm. The in-person meeting on January 7-9, 2008 will be held at the National Science Foundation. All attendees should go to 4201 Wilson Boulevard, Arlington, VA 22230 to pick up security passes and then go to 4121 Wilson Boulevard, Stafford Place II, Room 555, Arlington, VA 22230 for the meeting.

FOR FURTHER INFORMATION CONTACT: Timothy Creagan, Office of Technical and Information Services, Architectural and Transportation Barriers Compliance Board, 1331 F Street, NW., suite 1000, Washington, DC 20004-1111. Telephone number: 202-272-0016 (Voice); 202-272-0082 (TTY). Electronic mail address: creagan@access-board.gov.

SUPPLEMENTARY INFORMATION: The Architectural and Transportation Barriers Compliance Board (Access Board) established the Telecommunications and Electronic and Information Technology Advisory Committee (Committee) to assist it in revising and updating accessibility guidelines for telecommunications products and accessibility standards for electronic and information technology. The next committee meetings will focus on outstanding issues which have not yet been resolved. The agendas, instructions (including information on captioning), and dial in telephone numbers for the in-person meeting, as well as for the conference call are available at http://www.access-board.gov/sec508/update-index.htm. Notices of future meetings will be published in the Federal Register.

The committee may cancel the conference call before it is scheduled to take place depending on the needs of the committee and its progress in discussing and resolving outstanding issues. If the conference call is canceled, a notice will be posted at http://www.access-board.gov/sec508/update-index.htm. The conference call is open to the public and interested persons can dial in and communicate their views during public comment periods scheduled during the conference call. Participants may call in from any location of their choosing.

The in-person meeting on January 7-9, 2008 is open to the public and interested persons can attend the meeting and communicate their views during public comment periods scheduled on each day of the meeting. The in-person meeting site is accessible to individuals with disabilities. Sign language interpreters, an assistive listening system, and real-time captioning will be provided. For the comfort of other participants, persons attending committee meetings are requested to refrain from using perfume, cologne, and other fragrances. Due to security measures at the National Science Foundation, all attendees must notify the Access Board's receptionist at (202) 272-0007 or receptionist@access-board.gov by December 21, 2007 of their intent to attend the in-person meeting. This notification is required for expeditious entry into the facility and will enable the Access Board to provide additional information as needed.

Lawrence W. Roffee,
Executive Director.

[FR Doc. E7-24506 Filed 12-17-07; 8:45 am]

BILLING CODE 8150-01-P